DEPARTMENT OF ENERGY

Federal Energy Regulatory Commission

[Project No. 13877-003]

Mahoning Hydropower, LLC; Notice of Surrender of Preliminary Permit

Take notice that Mahoning Hydropower, LLC, permittee for the proposed Stonewall Jackson Hydroelectric Project, has requested that its preliminary permit be terminated. The permit was issued on April 1, 2011,¹ extended on March 20, 2014 for an additional two years,² and would have expired on March 31, 2016. The project would have been located at the existing U.S. Army Corps of Engineers' Stonewall Jackson Dam on the West Fork River in Lewis County, West Virginia.

¹ 135 FERC ¶ 62,001 (2011).

² 146 FERC ¶ 62,194 (2014).

The preliminary permit for Project No. 13877 will remain in effect until the close of business, December 2, 2015. But, if the Commission is closed on this day, then the permit remains in effect until the close of business on the next day in which the Commission is open.³ New applications for this site may not be submitted until after the permit surrender is effective.

³ 18 CFR 385.2007(a)(2) (2015).

Dated: November 2, 2015.
Nathaniel J. Davis, Sr.,
Deputy Secretary.

[FR Doc. 2015-28393 Filed 11-6-15; 8:45 am]

BILLING CODE 6717-01-P